DEPARTMENT OF TRANSPORTATION

[Docket No. DOT-MARAD 2014-0094]

Agency Requests for Renewal of a Previously Approved Information Collection(s): Application and Reporting Requirements for Participation in the Maritime Security Program

AGENCY: Maritime Administration, DOT.

ACTION: Notice and request for comments.

SUMMARY: The Department of Transportation (DOT) invites public comments about our intention to request the Office of Management and Budget (OMB) approval to renew an information collection. The collection involves enrollment of eligible vessels in the Maritime Security Program (MSP). The information to be collected will be used to determine if selected vessels are qualified to participate in the Maritime Security Program. We are required to publish this notice in the Federal Register by the Paperwork Reduction Act of 1995, Public Law 104-13.

DATES: Written comments should be submitted by August 6, 2014.

ADDRESSES: You may submit comments [identified by Docket No. DOT-MARAD-2014-0094] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Bill Kurfehs, 202-366-2318, Office of Sealift Support, Maritime Administration, U.S. Department of Transportation, 1200 New Jersey Avenue SE., Washington, DC 20590.

SUPPLEMENTARY INFORMATION: OMB Control Number: 2133-0525.

Title: Application and Reporting Requirements for Participation in the Maritime Security Program.

Form Numbers: MA-172.

Type of Review: Renewal of an information collection.

Background: The Maritime Security Act of 2003 extended under Section 3508 of the National Defense Authorization Act for Fiscal Year 2013, Public Law 112-239 provides for the enrollment of qualified vessels in the Maritime Security Program Fleet. Applications and amendments are used to select vessels for the fleet. Periodic reporting is used to monitor adherence of contractors to program parameters.

The collected information is necessary for MARAD to determine if selected vessels are qualified to participate in the Maritime Security Program.

Respondents: Respondents are vessel operators.

Number of Respondents: 15.

Frequency: Monthly/Annually.

Number of Responses: 195.

Total Annual Burden: 210 hours.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.93.

Dated: June 30, 2014.
Christine Gurland,
Acting Secretary, Maritime Administration.

[FR Doc. 2014-15756 Filed 7-3-14; 8:45 am]

BILLING CODE 4910-81-P